DEPARTMENT OF TRANSPORTATION

Maritime Administration

[Docket Number MARAD-2019-0011]

Deepwater Port License Application: SPOT Terminal Services LLC—Final General Conformity Determination

AGENCY: Maritime Administration, Department of Transportation.

ACTION: Notice of Final General Conformity Determination.

SUMMARY: The Maritime Administration (MARAD) and the U.S. Coast Guard (USCG) announce the availability of the Final General Conformity Determination to ensure that the air emissions associated with the proposed Sea Port Oil Terminal (SPOT) Deepwater Port Project (Project or SPOT Project) conform with the Texas State Implementation Plan (SIP). The SPOT Project proposes to provide United States (U.S.) crude oil loading services on very large crude carriers (VLCCs) and other crude oil carriers for export to the global market. A detailed description of the proposed project and prior federal action is provided under the SUPPLEMENTARY INFORMATION section of this notice.

ADDRESSES: The SPOT Deepwater Port License Application, the FEIS, this Final General Conformity Determination, and other associated documents are available for viewing at https://www.regulations.gov under docket number MARAD-2019-0011 (https://www.regulations.gov/docket/MARAD-2019-0011).

The public docket for the SPOT Deepwater Port License Application is maintained by the U.S. Department of Transportation, Docket Management Facility, West Building, Ground Floor, Room W12-140, 1200 New Jersey Avenue SE, Washington, DC 20590. The Federal Docket Management Facility's telephone number is 202-366-9317 or 202-366-9826; the fax number is 202-493-2251.

FOR FURTHER INFORMATION CONTACT: Mr. Efrain Lopez, MARAD, via telephone at (202) 366-9761 or email at SPOT_EIS@dot.gov; and Mr. Matthew Layman, USCG, via telephone at (202) 372-1421 or email at DeepwaterPorts@uscg.mil. Include MARAD-2019-0011 in the subject line of the message and provide your comments in the body of the email or as an attachment.

SUPPLEMENTARY INFORMATION:

Prior Federal Action

A Notice of Application that summarized the SPOT Deepwater Port License Application was published in the Federal Register on March 4, 2019 (84 FR 7413). A Notice of Intent to Prepare an Environmental Impact Statement (EIS) and Notice of Public Scoping Meeting was published in the Federal Register on March 7, 2019 (84 FR 8401). A Notice of Availability of the Draft Environmental Impact Statement (DEIS) and Notice of Public Meeting was published in the Federal Register on February 7, 2020 (85 FR 7381). A Notice of Availability of the Draft General Conformity Determination was published in the Federal Register on October 8, 2021 (86 FR 56349). A Notice of Availability of the Supplemental Draft Environmental Impact Statement (SDEIS) and Notice of Public Meetings was published in the Federal Register on October 29, 2021 (86 FR 60093). A Notice of Availability of the Final Environmental Impact Statement (FEIS) is being published simultaneously with this announcement under a separate notice. It is noted that comments received on the Draft General Conformity are addressed in the following appendices of the SPOT FEIS: Appendix C2—Comments on the Supplemental Draft EIS and Appendix V—Final General Conformity Determination.

Background

On January 31, 2019, MARAD and USCG received an application from SPOT for all Deepwater Ports related Federal authorizations required for a license to own, construct, and operate a deepwater port for the export of oil. The proposed deepwater port would be located in Federal waters approximately 27.2 to 30.8 nautical miles off the coast of Brazoria County, Texas. Texas was designated as the Adjacent Coastal State for the SPOT license application.

The Federal agencies opened a 30-day public comment period for the Draft General Conformity Determination that began on October 8, 2021, and ended on November 7, 2021. The purpose of this Final General Conformity Determination is to ensure that the air emissions associated with the SPOT Project conform with the Texas SIP in accordance with 40 CFR part 93, subpart B. The Final General Conformity Determination is available for public review at the Federal docket website: https://www.regulations.gov under docket number MARAD-2019-0011. As aforementioned, a Notice of Availability of the FEIS is being published simultaneously with this announcement.

This review and determination is triggered by air emissions from construction activities proposed by SPOT Terminal, LLC (the Applicant) that would exceed the applicable General Conformity de minimis threshold of 50 tons per year of nitrogen oxides or volatile organic compounds set by Determinations of Attainment by the Attainment Date, Extensions of the Attainment Date, and Reclassification of Several Areas Classified as Moderate for the 2008 Ozone National Ambient Air Quality Standards, published in the Federal Register on August 23, 2019 (84 FR 44238), within the Houston-Galveston-Brazoria (HGB) area. The HGB area includes Brazoria, Chambers, Fort Bend, Galveston, Harris, Liberty, Montgomery, and Waller counties and extends nine nautical miles offshore over state water.

Summary of the License Application

The proposed SPOT Deepwater Port (DWP) would be located in the U.S. Exclusive Economic Zone in the Gulf of Mexico, in Galveston Area Outer Continental Shelf lease blocks 463 and A-59, approximately 27.2 to 30.8 nautical miles off the coast of Brazoria County, Texas, in water depths of approximately 115 feet. The proposed project's onshore components would be located in both Brazoria and Harris counties.

The overall project would consist of both onshore and offshore marine components. The onshore components would consist of:

• Modifications to the existing Enterprise Crude Houston (ECHO) Terminal, including four electric motor-driven mainline crude oil pumps, four electric motor-driven booster crude oil pumps, and one measurement skid to support the delivery of crude oil to the proposed Oyster Creek Terminal;

• One 50.1-mile, 36-inch-diameter ECHO to Oyster Creek Pipeline;

• One pipeline interconnection from the existing Rancho II 36-inch-diameter pipeline to the ECHO to Oyster Creek Pipeline (Rancho II Junction);

• A new Oyster Creek Terminal on approximately 140 acres of land, including six electric motor-driven mainline crude oil pumps with the capacity to push crude oil to the offshore pipelines at a rate of up to 85,000 bph, four electric motor-driven booster crude oil pumps, seven aboveground storage tanks (each with a capacity of 685,000 barrels [600,000 barrels of working storage]) for a total onshore storage capacity of approximately 4.8 million barrels (4.2 million barrels working storage) of crude oil, metering equipment, two permanent and one portable vapor combustion units, and a firewater system;

• Two collocated 12.2-mile, 36-inch-diameter Oyster Creek to Shore Pipelines; and

• Ancillary facilities for the onshore pipelines, including ten mainline valves, of which six would be along the ECHO to Oyster Creek Pipeline and four along the Oyster Creek to Shore Pipelines, pig launchers for the ECHO to Oyster Creek Pipeline, and pig launchers and receivers for the Oyster Creek to Shore Pipelines.

The offshore and marine components would consist of:

• Two collocated, bi-directional, 46.9-mile, 36-inch-diameter crude oil offshore pipelines for crude oil delivery from the Oyster Creek Terminal to the platform; and

• Nine nautical miles of the above-mentioned forms part of the Final General Conformity Determination.

As stated, the purpose of this notice is to announce the availability of the Final General Conformity Determination to ensure that the SPOT Project conforms with the Texas SIP.

Privacy Act

Anyone can search the electronic form of all comments received into any of our dockets by the name of the individual submitting the comment (or signing the comment if submitted on behalf of an association, business, labor union, etc.). For information on DOT's compliance with the Privacy Act, please visit https://www.transportation.gov/privacy.

(Authority: 49 CFR 1.93)

By Order of the Maritime Administrator.
T. Mitchell Hudson, Jr.,
Secretary, Maritime Administration.

[FR Doc. 2022-15966 Filed 7-28-22; 8:45 am]

BILLING CODE 4910-81-P